DEPARTMENT OF AGRICULTURE

Rural Housing Service

Farm Service Agency

Notice of Request for Extension of a Currently Approved Information Collection

AGENCIES: Rural Housing Service (RHS), Farm Service Agency (FSA), USDA.

ACTION: Proposed collection; comments requested.

SUMMARY: In accordance with the Paperwork Reduction Act of 1995, this notice announces the Agencies' intention to request an extension for a currently approved information collection in support of 7 CFR part 1951, subpart F, “Analyzing Credit Needs and Graduation of Borrowers.”

DATES: Comments on this notice must be received on or before August 21, 2006 to be assured consideration.

FOR FURTHER INFORMATION CONTACT: Gary Wheeler, Senior Loan Officer, USDA, FSA, Farm Loan Programs, Loan Servicing and Property Management Division, 1400 Independence Ave., SW., Washington, DC 20250-0523, telephone (202) 690-4021. E-mail: gary.wheeler@wdc.usda.gov.

SUPPLEMENTARY INFORMATION: Title: 7 CFR, part 1951, subpart F, “Analyzing Credit Needs and Graduation of Borrowers.”

OMB Number: 0575-0093.

Expiration Date of Approval: November 30, 2006.

Type of Request: Extension of a currently approved information collection.

Abstract: Section 333 of the Consolidated Farm and Rural Development Act (Con Act) (7 U.S.C. 1983) requires the Agencies to “graduate” their direct loan borrowers to other credit when they are able to do so. Graduation is required because the Government loans are not to be extended beyond a borrower's need for subsidized rates or Government credit. Borrowers must refinance their direct Government loan when other credit becomes available at reasonable rates and terms. If other credit is not available, the Agencies will continue to review the account for possible graduation at periodic intervals. Also, 7 CFR part 1951, subpart F, requires FSA to provide a financial prospectus to lenders who may be interested in providing credit to FSA direct farm loan borrowers with an FSA guarantee and interest assistance. The information collected to carry out these statutory mandates is financial data such as amount of income, operating expenses, asset values and liabilities. This information collection is then submitted by the Agencies to private creditors.

Estimate of Burden: Public reporting for this collection of information is estimated to average two hours per response.

Respondents: Individuals or households, business or other for profit and farms.

Estimated Number of Respondents: 18,383.

Estimated Number of Responses per Respondent: 1.

Estimated Number of Responses: 18,383.

Estimated Total Annual Burden on Respondents: 38,322 hours.

Copies of this information collection can be obtained from Renita Bolden, Regulations and Paperwork Management Branch, at (202) 692-0035.

Comments: Comments are invited on: (a) Whether the proposed collection of information is necessary for the proper performance of the functions of the Agencies, including whether the information will have practical utility; (b) the accuracy of the Agencies estimate of the burden of the proposed collection of information including the validity of the Department of Agriculture methodology and assumptions used; (c) ways to enhance the quality, utility and clarity of the information to be collected; and (d) ways to minimize the burden of the collection of information on those who are to respond, including through the use of appropriate automated, electronic, mechanical, or other technological collection techniques or other forms of information technology. Comments may be sent to Renita Bolden, Regulations and Paperwork Management Branch, U.S. Department of Agriculture, Rural Development, STOP 0742, 1400 Independence Ave., SW., Washington, DC 20250. All responses to this notice will be summarized and included in the request for OMB approval. All comments will also become a matter of public record.

Dated: June 16, 2006.
David Villano,
Acting Administrator, Rural Housing Service.
Dated: June 14, 2006.
Glen L. Keppy,
Acting Administrator, Farm Service Agency.

[FR Doc. 06-5580 Filed 6-21-06; 8:45 am]

BILLING CODE 3410-XV-P